ENVIRONMENTAL PROTECTION AGENCY

[FRL-9120-3]

Science Advisory Board Staff Office Notification of a Public Meeting of a Workgroup of the Chartered Science Advisory Board

AGENCY: Environmental Protection Agency (EPA).

ACTION: Notice.

SUMMARY: The EPA Science Advisory Board (SAB) Staff Office announces a public meeting of a workgroup of the chartered Science Advisory Board to conduct an expedited and focused review of EPA's draft “Toxicological Review of Inorganic Arsenic: In Support of the Summary Information on the Integrated Risk Information System (IRIS)” (EPA/635/R-10/001). The SAB workgroup will assess the adequacy of EPA's implementation of the SAB previous recommendations regarding the cancer risk assessment of inorganic arsenic.

DATES: The meeting will be held on April 6, 2010 from 1 p.m. to 5:30 p.m. (Eastern Time) and April 7, 2010 from 8:30 a.m. to 2 p.m. (Eastern Time).

ADDRESSES: The meeting will be held at the St. Regis Hotel, 923 16th and K Streets, NW., Washington, DC 20006.

FOR FURTHER INFORMATION CONTACT: Any member of the public wishing to obtain general information concerning this public meeting should contact Dr. Sue Shallal, Designated Federal Officer (DFO), EPA Science Advisory Board (1400F), 1200 Pennsylvania Avenue, NW., Washington, DC 20460; via telephone/voice mail: (202) 343-9977; fax: (202) 233-0643; or e-mail at Shallal.suhair@epa.gov. General information concerning the EPA Science Advisory Board can be found on the SAB Web site at http://www.epa.gov/sab.

SUPPLEMENTARY INFORMATION: The SAB was established by 42 U.S.C. 4365 to provide independent scientific and technical advice to the Administrator on the technical basis for Agency positions and regulations. The SAB is a Federal advisory committee chartered under the Federal Advisory Committee Act (FACA), as amended, 5 U.S.C., App 2. The SAB will comply with the provisions of FACA and all appropriate SAB Staff Office procedural policies. Pursuant to the Federal Advisory Committee Act, Public Law 92-463, notice is hereby given that a workgroup of the chartered SAB will hold a public meeting to lead the review of the implementation of SAB's previous recommendations for the revision of EPA's cancer risk assessment of inorganic arsenic.

Background: The EPA is currently in the process of updating the 1988 IRIS cancer assessment for inorganic arsenic (iAs). The EPA evaluated and implemented the National Research Council (2001) recommendations and in 2005 requested that the SAB review the Agency's draft cancer assessment for iAs. The SAB review report was finalized in 2007 and is available at the following URL: http://yosemite.epa.gov/sab/sabproduct.nsf/02ad90b136fc21ef85256eba00436459/EADABBF40DED2A0885257308006741EF/$File/sab-07-008.pdf.

EPA's Office of Research Development has completed a 2010 draft “Toxicological Review of Inorganic Arsenic: In Support of the Summary Information on the Integrated Risk Information System (IRIS)” (EPA/635/R-10/001). This draft assessment includes an evaluation and characterization of the potential cancer hazard of iAs and a quantitative dose-response cancer assessment for iAs. The draft assessment also provides a disposition of SAB's previous review comments and recommendations.

In response to the Administrator's request, ORD is requesting that the SAB evaluate and comment on EPA's interpretation and implementation of the key SAB (2007) recommendations in the revised draft assessment. ORD is requesting an expedited and focused review of the draft assessment in three areas: Evaluation of epidemiological literature; dose-response modeling approaches; and the sensitivity analysis of the exposure assumptions used in the risk assessment. In response to this request, the SAB is convening a workgroup of the chartered SAB to lead this expedited and focused review and to assess the responsiveness of EPA's implementation of the previous SAB recommendations. The SAB workgroup's draft report will be reviewed and approved by the full Board in a subsequent public meeting to be announced in a separate Federal Register notice. Information about this SAB advisory activity can be found on the SAB Web site at http://yosemite.epa.gov/sab/sabproduct.nsf/fedrgstr_activites/Rev%20Tox%20Review%20Inorg%20Arsenic?OpenDocument.

Availability of Meeting Materials: The agendas and other materials in support of the meeting will be placed on the SAB Web site at http://www.epa.gov/sab in advance. For technical questions and information concerning EPA's draft document, please contact Dr. Reeder Sams at (919) 541-0661, or sams.reeder@epa.gov.

Procedures for Providing Public Input: Interested members of the public may submit relevant written or oral information for the SAB to consider on the topics included in this advisory activity or on the group conducting this advisory activity. Oral Statements: In general, individuals or groups requesting an oral presentation at a public meeting will be limited to five minutes per speaker, with no more than a total of one hour for all speakers. Interested parties should contact Dr. Shallal, DFO, in writing (preferably via e-mail) at the contact information noted above no later than March 26, 2010 to be placed on a list of public speakers for the meeting. Written Statements: Written statements should be received in the SAB Staff Office by March 29, 2010 so that the information may be made available to the chartered SAB members for their consideration and placed on the SAB Web site for public information. Written statements should be supplied to the DFO in the following formats: one hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Sue Shallal at (202) 343-9977, or shallal.suhair@epa.gov. To request accommodation of a disability, please contact Dr. Shallal, preferably at least 10 days prior to the meeting, to give EPA as much time as possible to process your request.

Dated: February 22, 2010.
Anthony Maciorowski,
Deputy Director, EPA Science Advisory Board Staff Office.

[FR Doc. 2010-4138 Filed 2-26-10; 8:45 am]

BILLING CODE 6560-50-P